FEDERAL ACCOUNTING STANDARDS ADVISORY BOARD

Renewal of FASAB Charter

AGENCY: Federal Accounting Standards Advisory Board.

ACTION: Notice.

Board Action: Pursuant to 31 U.S.C. 3511(d), the Federal Advisory Committee Act (Pub. L. 92-463), as amended, and the FASAB Rules of Procedure, as amended in April, 2004, notice is hereby given that under the authority and in furtherance of the objectives of 31 U.S.C. 3511(d), the Secretary of the Treasury, the Director of OMB, and the Comptroller General (the Sponsors) have established and agreed to continue an advisory committee to consider and recommend accounting standards and principles for the Federal government.

For Further Information, or to Obtain a Copy of the Charter, Contact: Wendy Payne, Executive Director, 441 G St., NW., Mail Stop 6K17V, Washington, DC 20548, or call (202) 512-7350.

Authority: Federal Advisory Committee Act, Public Law 92-463.

Dated: October 9, 2009.
Charles Jackson,
Federal Register Liaison Officer.

[FR Doc. E9-24794 Filed 10-14-09; 8:45 am]

BILLING CODE 1610-02-P